INTERNATIONAL TRADE COMMISSION

[Investigation Nos. 731-TA-1082-1083 (Second Review)]

Chlorinated Isocyanurates From China and Spain

Determinations

On the basis of the record ¹ developed in the subject five-year reviews, the United States International Trade Commission (“Commission”) determines, pursuant to the Tariff Act of 1930 (“the Act”), that revocation of the antidumping duty orders on chlorinated isocyanurates from China and Spain would be likely to lead to continuation or recurrence of material injury to an industry in the United States within a reasonably foreseeable time.

¹ The record is defined in sec. 207.2(f) of the Commission's Rules of Practice and Procedure (19 CFR 207.2(f)).

Background

The Commission, pursuant to section 751(c) of the Act (19 U.S.C. 1675(c)), instituted these reviews on September 1, 2015 (80 FR 52789) and determined on December 7, 2015 that it would conduct full reviews (80 FR 79358, December 21, 2015).

Notice of the scheduling of the Commission's reviews and of a public hearing to be held in connection therewith was given by posting copies of the notice in the Office of the Secretary, U.S. International Trade Commission, Washington, DC, and by publishing the notice in the Federal Register on April 20, 2016 (81 FR 23328). The hearing was held in Washington, DC, on September 13, 2016, and all persons who requested the opportunity were permitted to appear in person or by counsel.

The Commission made these determinations pursuant to section 751(c) of the Act (19 U.S.C. 1675(c)). It completed and filed its determinations in these reviews on November 16, 2016. The views of the Commission are contained in USITC Publication 4646 (November 2016), entitled Chlorinated Isocyanurates from China and Spain: Investigation Nos. 731-TA-1082-1083 (Second Review).

By order of the Commission.
Issued: November 16, 2016.
Lisa R. Barton,
Secretary to the Commission.

[FR Doc. 2016-27990 Filed 11-21-16; 8:45 am]

BILLING CODE 7020-02-P